NATIONAL CREDIT UNION ADMINISTRATION

Sunshine Act Meeting

TIME AND DATE: 10:00 a.m., Thursday, June 16, 2016.

PLACE: Board Room, 7th Floor, Room 7047, 1775 Duke Street (All visitors must use Diagonal Road Entrance), Alexandria, VA 22314-3428.

STATUS: Open.

MATTERS TO BE CONSIDERED:

1. NCUA's Rules and Regulations, Technical Amendments to Community Development Revolving Loan Fund.

2. NCUA's Rules and Regulations, Statutory Inflation Adjustment of Civil Money Penalties.

3. Board Briefing, Interest Rate Risk Supervision and Adding 'S' to CAMEL.

RECESS: 11:00 a.m.

TIME AND DATE: 11:15 a.m., Thursday, June 16, 2016.

PLACE: Board Room, 7th Floor, Room 7047, 1775 Duke Street, Alexandria, VA 22314-3428.

STATUS: Closed.

MATTERS TO BE CONSIDERED:

1. Supervisory Matter. Closed pursuant to Exemptions (8), (9)(i)(B), and (9)(ii).

FOR FURTHER INFORMATION CONTACT: Gerard Poliquin, Secretary of the Board, Telephone: 703-518-6304.

Gerard Poliquin,
Secretary of the Board.

[FR Doc. 2016-14022 Filed 6-9-16; 4:15 pm]

BILLING CODE 7535-01-P